SECURITIES AND EXCHANGE COMMISSION

[File No. 500-1]

In the Matter of Order of Suspension of Trading Global Matrechs, Inc.

March 30, 2009.

It appears to the Securities and Exchange Commission that there is a lack of current and accurate information concerning the securities of Global Matrechs, Inc. (“Global”) because it is nearly two years delinquent in its required periodic reports. Global is quoted on the Pink Sheets OTC Markets, Inc. under the ticker symbol GBMR.

The Commission is of the opinion that the public interest and the protection of investors require a suspension of trading in the securities of the above-listed company.

Therefore, it is ordered, pursuant to Section 12(k) of the Securities Exchange Act of 1934, that trading in the securities of the above-listed company is suspended for the period from 9:30 a.m. EDT on March 30, 2009, through 11:59 p.m. EDT on April 13, 2009.

By the Commission.
Jill M. Peterson,
Assistant Secretary.

[FR Doc. E9-7397 Filed 3-30-09; 4:15 pm]

BILLING CODE